DEPARTMENT OF THE TREASURY

United States Mint

ACTION: Notification of Pricing for 2010 United States Mint Presidential $1 Coin Proof Set. ™

SUMMARY: The United States Mint is announcing the price of the 2010 United States Mint Presidential $1 Coin Proof Set.

The 2010 United States Mint Presidential $1 Coin Proof Set, featuring $1 coins honoring Presidents Millard Fillmore, Franklin Pierce, James Buchanan and Abraham Lincoln, will be priced at $15.95. This set will be released February 11, 2010.

FOR FURTHER INFORMATION CONTACT: B.B. Craig, Associate Director for Sales and Marketing; United States Mint; 801 9th Street, NW., Washington, DC 20220; or call 202-354-7500.

Authority: 31 U.S.C. 5111, 5112 & 9701.

Dated: January 27, 2010.
Edmund C. Moy,
Director, United States Mint.

[FR Doc. 2010-2131 Filed 2-1-10; 8:45 am]

BILLING CODE P